DEPARTMENT OF ENERGY

Federal Energy Regulatory Commission

Combined Notice of Filings # 1

July 9, 2009.

Take notice that the Commission received the following electric corporate filings:

Docket Numbers: EC07-30-002; EC09-65-001.

Applicants: KGen Hinds LLC, KGen Hot Spring LLC, KGen Murray I and II LLC, KGEN Sandersville LLC.

Description: Supplemental Filing of KGen Hinds LLC, KGen Hot Spring LLC, KGen Murray I and II LLC and KGen Sandersville LLC.

Filed Date: 07/08/2009.

Accession Number: 20090708-5099.

Comment Date: 5 p.m. Eastern Time on Wednesday, July 29, 2009.

Take notice that the Commission received the following electric rate filings:

Docket Numbers: ER01-1099-013; ER02-1406-014; ER99-2928-010.

Applicants: Cleco Power LLC; Acadia Power Partners, LLC; Cleco Evangeline LLC.

Description: Cleco Companies submits an updated market power analysis for the Cleco Companies, supporting continued allowance of market-based rates in geographic markets etc.

Filed Date: 06/30/2009.

Accession Number: 20090630-0055.

Comment Date: 5 p.m. Eastern Time on Tuesday, July 21, 2009.

Docket Numbers: ER01-1403-010; ER06-1443-006; ER04-366-008; ER01-2968-011; ER01-845-009; ER05-1122-007; ER08-107-004.

Applicants: FirstEnergy Operating Companies, Pennsylvania Power Company, Jersey Central Power & Light Co., FirstEnergy Solutions Corp., FirstEnergy Generation Corporation; FirstEnergy Nuclear Generation Corporation, FirstEnergy Generation Mansfield Unit 1.

Description: Supplemental Information of FirstEnergy Generation Corp., et. al. regarding post-Study Year Energy Purchases from Wind-Powered Generators.

Filed Date: 06/30/2009.

Accession Number: 20090630-5201.

Comment Date: 5 p.m. Eastern Time on Tuesday, July 21, 2009.

Docket Numbers: ER09-978-001.

Applicants: PJM Interconnection L.L.C.

Description: PJM Interconnection submits Substitute First Revised Sheet 224Q et al. to FERC Electric Tariff, Sixth Revised Volume 1.

Filed Date: 07/08/2009.

Accession Number: 20090709-0143.

Comment Date: 5 p.m. Eastern Time on Wednesday, July 29, 2009.

Docket Numbers: ER09-1421-000.

Applicants: Midwest Independent Transmission System Operator, Inc.

Description: Midwest Independent Transmission System Operator, Inc submits Contract for Interconnection, Load Control Boundary, and Maintenance with Northern States Power Co dated 6/12/09 etc.

Filed Date: 07/08/2009.

Accession Number: 20090709-0144.

Comment Date: 5 p.m. Eastern Time on Wednesday, July 29, 2009.

Docket Numbers: ER09-1422-000.

Applicants: Midwest Independent Transmission System Operator, Inc.

Description: Midwest Independent Transmission System Operator, Inc submits a Facilities Construction Agreement with Minnkota Power Cooperative, Inc etc.

Filed Date: 07/08/2009.

Accession Number: 20090709-0147.

Comment Date: 5 p.m. Eastern Time on Wednesday, July 29, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-17220 Filed 7-20-09; 8:45 am]

BILLING CODE 6717-01-P